DEPARTMENT OF TRANSPORTATION

Surface Transportation Board

[Docket No. FD 35434]

HC Railroad, LLC—Acquisition and Operation Exemption—Honey Creek Railroad, Inc.

HC Railroad, LLC (HC), a noncarrier, has filed a verified notice of exemption under 49 CFR 1150.31 to acquire from the Honey Creek Railroad (HCR), and to operate 6.4 miles of HCR's rail line, extending from milepost 17.4 to milepost 23.8,¹ in Rush County, Ind.²

¹ The line connects with CSX Transportation at Rushville, Ind., near milepost 23.8.

² HC states that the subject trackage only serves one shipper, Morristown Grain Company, Inc., which will be separately purchased by an affiliate of HC.

The transaction is expected to be consummated on or after November 11, 2010 (30 days after the exemption was filed).

HC certifies that its projected annual revenues as a result of this transaction will not result in HC becoming a Class II or Class I rail carrier. HC further certifies that its projected annual revenues upon becoming a Class III carrier will not exceed $5 million.

If the notice contains false or misleading information, the exemption is void ab initio. Petitions to revoke the exemption under 49 U.S.C. 10502(d) may be filed at any time. The filing of a petition to revoke will not automatically stay the effectiveness of the exemption. Petitions to stay must be filed no later than November 4, 2010 (at least 7 days before the exemption becomes effective).

An original and 10 copies of all pleadings, referring to Docket No. FD 35434, must be filed with the Surface Transportation Board, 395 E Street, SW., Washington, DC 20423-0001. In addition, one copy of each pleading must be served on Andrew P. Goldstein, McCarthy, Sweeney & Harkaway, P.C., 1825 K Street, NW., Suite 700, Washington, DC 20006.

Board decisions and notices are available on our Web site at http://www.stb.dot.gov.

Decided: October 25, 2010.
By the Board, Rachel D. Campbell, Director, Office of Proceedings.
Jeffrey Herzig,
Clearance Clerk.

[FR Doc. 2010-27270 Filed 10-27-10; 8:45 am]

BILLING CODE 4915-01-P